DEPARTMENT OF THE INTERIOR

Bureau of Land Management

[LLNVS00560.L58530000.EU0000.241A; N-92814; 12-08807; MO# 4500064620; TAS:14X5232]

Notice of Realty Action: Non-Competitive (Direct) Sale and Release of Reversionary Interest, Clark County, NV (N-92814)

AGENCY: Bureau of Land Management, Interior.

ACTION: Notice of realty action.

SUMMARY: The Bureau of Land Management (BLM), Las Vegas Field Office, proposes to sell the Federal reversionary interest in 2.5 acres of land in Las Vegas, Nevada. The land was conveyed out of Federal ownership in 1996 subject to the Federal reversionary interest that is now proposed for sale under the authority of Section 202 and Section 203 of the Federal Land Policy and Management Act of October 21, 1976 (FLPMA), as amended. The appraised fair market value for the Federal reversionary interest is $558,000.00.

DATES: Comments regarding the proposed sale must be received by the BLM on or before July 28, 2014.

ADDRESSES: Send written comments concerning the proposed sale to the BLM, Las Vegas Field Manager, 4701 N. Torrey Pines Drive, Las Vegas, NV 89130.

FOR FURTHER INFORMATION CONTACT: Dorothy Jean Dickey, Realty Specialist, at the above address or by telephone at 702-515-5119, or by email to ddickey@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM will offer a direct sale for the Federal reversionary interest in the following described land in Las Vegas, Nevada.

Mount Diablo Meridian, Nevada

T. 20 S., R. 60 E.,

Sec. 29, NW¼NE¼NE¼NE.

The area described contains 2.5 acres.

On May 22, 1996, the BLM patented to the City of Las Vegas 320 acres under the authority of the Recreation and Public Purpose (R&PP) Act of June 14, 1926, as amended, 43 U.S.C. 869 et. seq., for use as a public park. A portion of the park was not constructed. The Chabad Hebrew Center (a non-profit association) requested permission from BLM to use 5 acres of the 320 acres for a synagogue with classrooms. A Notice of Realty Action was published on January 24, 2005 in the Federal Register, Volume 70, No. 14, pages 3381 and 3382 to allow the City of Las Vegas to transfer 5 acres of its patented land to Chabad Hebrew Center for use as a synagogue, social hall, classrooms and administrative offices. The change of use will be from a public park to Chabad Hebrew Center. Because of the rising property values beginning in 2004, the Chabad Hebrew Center elected to use only 2.5 acres. On October 20, 2006, under the authority of the R&PP Act, the BLM issued a Partial Transfer of Patent and Change in Use document for 2.5 acres of patent 27-96-0031, to the Chabad Hebrew Center for their use as a synagogue, social hall, classrooms, and offices (Certificate Number 27-43). The United States (U.S.) retained a reversionary interest in the parcel which could result in title reverting to the U.S. if the land is used for purposes not allowed under the R&PP Act or is transferred to another party without the BLMs approval. The Chabad Hebrew Center's original plans included construction of a synagogue, social hall, classrooms, and administrative offices on the parcel to serve the Jewish community. The Chabad Hebrew Center now plans to install a cellular tower in addition to other building, which will support the synagogue, classrooms, and the surrounding local community and businesses. The BLM received a request from the Chabad Hebrew Center to purchase the Federal reversionary interest so they can install the cellular tower. After purchase of the Federal reversionary interest, the Chabad Hebrew Center will be allowed to use the 2.5 acres for commercial development and to transfer the land to another party without the BLM's approval

The Federal reversionary interest is difficult and uneconomic to manage, and meets the criteria for disposal set forth in 43 CFR 2710.0-3(a)(3). The parcel is within the boundaries of the City of Las Vegas and is in an urban setting. The parcel is not contiguous to any public lands administered by the BLM. The urban setting and the lack of other contiguous public lands makes the parcel impractical for the BLM to administer. Therefore, the BLM has determined that the best interest of the public will be served by a direct sale of the Federal reversionary interest to the Chabad Hebrew Center. The lands will be offered for sale using direct sale procedures pursuant to 43 CFR 2711.3-3.

The sale and release of the Federal reversionary interest is in conformance with the BLM Las Vegas Resource Management Plan (RMP) and the Record of Decision (ROD) approved October 5, 1998. Under Section 202 and Section 203 of FLPMA, October 21, 1976, as amended, gives the Secretary of the Interior authority to sell public land if the Secretary of the Interior determines that the sale of the parcel meets the criteria of being difficult and uneconomic to manage and is not suitable for management by another Federal agency. In this situation, the parcel of land is difficult and uneconomic to manage due to its location, is not required for any other Federal purpose, and is not suitable for management by any other Federal Department or agency.

The reversionary interest will not be sold until at least August 11, 2014. Any conveyance document issued will only convey the reversionary interest retained by the U.S. in patent 27-96-0031 and will contain the following terms, conditions, and reservations:

1. A condition that the conveyance be subject to all valid existing rights of record.

2. A condition that the conveyance will be subject to all reservations, conditions and restrictions in patent 27-96-0031, except the Federal reversionary interest, which is being conveyed.

3. An appropriate indemnification clause protecting the U.S. from claims arising out of the patentee's use, occupancy, or operations on the patented lands.

4. Additional terms and conditions that the authorized officer deems appropriate. Detailed information concerning the proposed sale including the appraisal, planning and environmental document is available for review at the location identified in ADDRESSES above.

Public comments regarding the proposed sale may be submitted in writing to the BLM Las Vegas Field Office (see ADDRESSES above) on or before July 28, 2014. Any comments regarding the proposed sale will be reviewed by the BLM Nevada State Director or other authorized official of the Department of the Interior, who may sustain, vacate, or modify this realty action in whole or in part. In the absence of timely filed objections, this realty action will become final determination of the Department of the Interior.

Before including your address, phone number, email address, or other personal identifying information in your comment, you should be aware that your entire comment—including your personal identifying information—may be made publicly available at any time. While you can ask us in your comment to withhold your personal identifying information from public review, we cannot guarantee that we will be able to do so.

Authority: 43 CFR 2711.1-2.

Vanessa L. Hice,
Assistant Field Manager, Las Vegas Field Office.

[FR Doc. 2014-13709 Filed 6-11-14; 8:45 am]

BILLING CODE 4310-HC-P